NUCLEAR REGULATORY COMMISSION

[NRC-2012-0104]

Plant-Specific Adoption, Revision 4 of the Improved Standard Technical Specifications

AGENCY: Nuclear Regulatory Commission.

ACTION: Notice of Availability.

SUMMARY: The U.S. Nuclear Regulatory Commission (NRC or the Commission) is announcing the availability of Revision 4.0 of the Improved Standard Technical Specifications, NUREG-1430, “Standard Technical Specifications, Babcock and Wilcox Plants,” NUREG-1431, “Standard Technical Specifications, Westinghouse Plants,” NUREG-1432, “Standard Technical Specifications, Combustion Engineering Plants,” NUREG-1433, “Standard Technical Specifications, General Electric Plants, BWR/4,” and NUREG-1434, “Standard Technical Specifications, General Electric Plants, BWR/6.”

ADDRESSES: Please refer to Docket ID NRC-2012-0104 when contacting the NRC about the availability of information regarding this document. You may access information related to this document, which the NRC possesses and is publicly available, using the following methods:

• Federal Rulemaking Web site: Go to http://www.regulations.gov and search for Docket ID NRC-2012-0104. Address questions about NRC dockets to Carol Gallagher; telephone: 301 492-3668; email: Carol.Gallagher@nrc.gov.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. NUREG-1430, “Standard Technical Specifications, Babcock and Wilcox Plants” Revision 4, is available in ADAMS under Accession No. ML12100A177 (Technical Specifications) and ML12100A178 (Bases), NUREG-1431, “Standard Technical Specifications, Westinghouse Plants” Revision 4, ADAMS Accession No. ML12100A222 (Technical Specifications) and ML12100A228 (Bases); NUREG-1432, “Standard Technical Specifications, Combustion Engineering Plants” Revision 4, ADAMS Accession No. ML12102A165 (Technical Specifications) and ML12102A165 (Bases), NUREG-1433, “Standard Technical Specifications, General Electric Plants, BWR/4” Revision 4, ADAMS Accession No. ML12104A192 (Technical Specifications) and ML12104A193 (Bases), and NUREG-1434, “Standard Technical Specifications, General Electric Plants, BWR/6” Revision 4, ADAMS Accession No. ML12104A195 (Technical Specifications) and ML12104A196 (Bases).

• NRC's PDR: You may examine and purchase copies of public documents at the NRC's PDR, Room O1-F21, One White Flint North, 11555 Rockville Pike, Rockville, Maryland 20852.

FOR FURTHER INFORMATION CONTACT: Mr. Shaun M. Anderson, Reactor Systems Engineer, Technical Specifications Branch, Mail Stop: O-7 C2A, Division of Safety Systems, Office of Nuclear Reactor Regulation, U.S. Nuclear Regulatory Commission, Washington, DC, 20555-0001; telephone 301-415-2039 or email at Shaun.Anderson@nrc.gov or Mr. Gerald Waig, Technical Specifications Branch, Mail Stop: O-7 C2A, Division of Safety Systems, Office of Nuclear Reactor Regulation, U.S. Nuclear Regulatory Commission, Washington, DC 20555-0001; telephone 301-415-2260 or email; Gerald.Waig@nrc.gov.

SUPPLEMENTARY INFORMATION: The changes reflected in Revision 4 result from the experience gained from plant operation using the improved standard technical specifications (STS) and extensive public technical meetings and discussions among the NRC staff and various nuclear power plant licensees and the Nuclear Steam Supply System (NSSS) Owners Groups.

The improved STS were developed based on the criteria in the Final Commission Policy Statement on Technical Specifications Improvements for Nuclear Power Reactors, dated July 22, 1993 (58 FR 39132), which was subsequently codified by changes to Title 10 of the Code of Federal Regulations (10 CFR) 50.36, published on July 19, 1995 (60 FR 36953). Licensees are encouraged to upgrade their technical specifications consistent with those criteria and conforming, to the practical extent, to Revision 4 to the improved STS. The Commission continues to place the highest priority on requests for complete conversions to the improved STS. Licensees adopting portions of the improved STS to existing technical specifications should adopt all related requirements, as applicable, to achieve a high degree of standardization and consistency.

Licensees opting to apply for an improved STS conversion are responsible for reviewing the NRC staff STS and the applicable technical bases, providing any necessary plant-specific information, and assessing the completeness and accuracy of their license amendment request (LAR). The NRC will process each amendment application responding to the Notice of Availability according to applicable NRC rules and procedures.

The proposed changes do not prevent licensees from requesting an alternate approach or proposing changes other than those proposed in the Improved STS, Revision 4. However, significant deviations from the approach recommended in this notice or the inclusion of additional changes to the license will require additional NRC staff review. This may increase the time and resources needed for the review or result in NRC staff rejection of the LAR. Licensees desiring significant deviations or additional changes should instead submit an LAR that does not claim to adopt an Improved STS, Revision 4.

NUREG | Volume 1 technical specifications | Volume 2 bases
NUREG-1430, “Standard Technical Specifications, Babcock and Wilcox Plants” | ML12100A177 | ML12100A178
NUREG-1431, “Standard Technical Specifications, Westinghouse Plants” | ML12100A222 | ML12100A228
NUREG-1432, “Standard Technical Specifications, Combustion Engineering Plants” | ML12102A165 | ML12102A169
NUREG-1433, “Standard Technical Specifications, General Electric BWR/4 Plants” | ML12104A192 | ML12104A193
NUREG-1434, “Standard Technical Specifications, General Electric BWR/6 Plants” | ML12104A195 | ML12104A196

Dated at Rockville, Maryland, this 30th day of April 2012.
For the Nuclear Regulatory Commission.
Robert Elliott,
Chief, Technical Specifications Branch, Division of Safety Systems, Office of Nuclear Reactor Regulation.

[FR Doc. 2012-11299 Filed 5-9-12; 8:45 am]

BILLING CODE 7590-01-P